DEPARTMENT OF TRANSPORTATION

National Highway Traffic Safety Administration

[Docket No. NHTSA 2003-15644; Notice 1]

Freightliner LLC; Receipt of Application for Determination of Inconsequential Noncompliance

Freightliner LLC (Freightliner), on behalf of Thomas Built Buses, Inc. (Thomas) of High Point, North Carolina, has applied to be exempted from the notification and remedy requirements of the 49 U.S.C. chapter 301 “Motor Vehicle Safety” for a noncompliance with Federal Motor Vehicle Safety Standard (FMVSS) No. 205, “Glazing Materials,” on the basis that the noncompliance is inconsequential to motor vehicle safety. Freightliner has filed a report of noncompliance pursuant to 49 CFR part 573, “Defect and Noncompliance Reports.”

This notice of receipt of the application is published under 49 U.S.C. 30118 and 30120 and does not represent any agency decision or other exercise of judgment concerning the merits of the application. See 49 U.S.C. 30118 (d) and 30120 (h).

Freightliner submitted the following information in accordance with the requirements of 49 CFR part 556, “Exemption for Inconsequential Defect or Noncompliance.”

Summary of the Petition

Freightliner has determined that approximately 700 Thomas Built Conventional, MPV-EF, and HDX buses manufactured between September 22, 2002, and February 24, 2003, do not meet the labeling requirements of Paragraph S6 of FMVSS No. 205, “Glazing Materials,” specifically section 6 of ANSI Z26 as incorporated by reference. The driver side windows were not marked with the DOT symbol, manufacturer's number, and the AS 2 code mark. According to Freightliner, the glazing otherwise met all the material, performance, and marking requirements of FMVSS No. 205, and it supplied a supporting compliance test report.

Freightliner believes that there is no safety risk associated with the glazing. The buses containing this glazing are maintained by professional transportation facilities and personnel that would be expected to correctly replace this glazing because they have experience in such maintenance. Freightliner maintains that, although this failure to label the driver side windows with the DOT number and AS2 code constitutes a noncompliance with the marking requirements of FMVSS No. 205, it is inconsequential to motor vehicle safety. Therefore, Freightliner believes Thomas should be exempted from the notification and remedy requirements of the National Traffic and Motor Vehicle Safety Act.

Availability of the Petition and Other Documents

The petition and other relevant information are available for public inspection in NHTSA Docket No. NHTSA-2003-15644. You may call the Docket at (202) 366-9324 or you may visit the Docket Management in Room PL-401, 400 7th Seventh Street, SW., Washington, DC 20590 (10 a.m. to 5 p.m., Monday through Friday). You may also view the petition and other relevant information on the internet. To do this, do the following:

(1) Go to the Docket Management System (DMS) Web page of the Department of Transportation (http://dms.dot.gov/).

(2) On that page, click on “Simple Search.”

(3) On the next page (http://dms.dot.gov/searchform.simple.cfm/), type in the docket number, “15644.” After typing the docket number, click on “Search.”

(4) On the next page, which contains docket summary information for the docket you selected, click on the desired comments. You may download the comments and other materials.

Comments: You may submit comments by DOT DMS Docket Number NHTSA 2003-15644, by any of the following methods:

• Web Site: http://dms.dot.gov. Follow the instructions for submitting comments on the DOT electronic docket site.

• Fax: 1-202-493-2251.

• Mail: Docket Management Facility; U.S. Department of Transportation, 400 Seventh Street, SW., Nassif Building, Room PL-401, Washington, DC 20590-001

• Hand Delivery: Room PL-401 on the plaza level of the Nassif Building, 400 Seventh Street, SW., Washington, DC, between 9 a.m. and 5 p.m., Monday through Friday, except Federal holidays.

• Federal eRulemaking Portal: Go to http://www.regulations.gov. Follow the online instructions for submitting comments.

All comments received before the close of business on the closing date indicated below will be considered. The application and supporting materials, and all comments received after the closing date, will also be filed and will be considered to the extent practicable. When the application is granted or denied, the notice will be published in the Federal Register pursuant to the authority indicated below.

Comment closing date: September 18, 2003.

(49 U.S.C. 30118, 30120; delegations of authority at 49 CFR 1.50 and 49 CFR 501.8)
Issued on: August 13, 2003.
Stephen R. Kratzke,
Associate Administrator for Rulemaking.

[FR Doc. 03-21219 Filed 8-18-03; 8:45 am]

BILLING CODE 4910-59-P